DEPARTMENT OF VETERANS AFFAIRS

Capital Asset Realignment for Enhanced Services (CARES) Commission; Notice of Meeting

The Department of Veterans Affairs (VA) gives notice under Public Law 92-463 (Federal Advisory Committee Act) that the Capital Asset Realignment for Enhanced Services (CARES) Commission will hold a meeting on October 14-16, 2003, at the Hotel Washington, Pennsylvania Avenue at 15th Street, NW., Washington, DC 20004. The sessions on October 14 and 15 will begin at 10:30 a.m. and end at 4:30 p.m. and the session on October 16 will begin at 8:30 a.m. and end at 2:30 p.m. These sessions are open to the public.

The purpose of the Commission is to conduct an external assessment of VA's capital asset needs and to assure that stakeholder and beneficiary concerns are fully addressed. The Commission is reviewing recommendations in VA Under Secretary for Health's Draft National CARES Plan. The Commission will also consider recommendations submitted by veterans service organizations, individual veterans, Congress, medical and nursing school affiliates, VA employees, local governments, community groups and others. Following its assessment, the Commission will make specific recommendations to the Secretary of Veterans Affairs regarding the Draft Plan's realignment and allocation of capital assets necessary to meet the demands for and enhance veterans healthcare services over the next 20 years.

The October 14-16 meeting will be the third public meeting held by the Commission since the issuance of the Draft National CARES Plan. The Commission will review the information received from nationwide site visits and public hearings and its regular public meetings. The Commission will begin deliberations regarding the Draft National CARES Plan and its impact in the various markets.

No time will be allocated at these meetings for receiving oral presentations from the public. However, interested persons may either attend or file statements with the Commission. Written statements may be filed either before the meeting or within 10 days after the meeting and addressed to: Department of Veterans Affairs, CARES Commission (OOCARES), 810 Vermont Avenue, NW., Washington, DC 20420. Any member of the public wishing additional information should contact Mr. Richard E. Larson, Executive Director, CARES Commission, at (202) 501-2000.

Dated: September 26, 2003.
By Direction of the Secretary:
E. Philip Riggin,
Committee Management Officer.

[FR Doc. 03-25095 Filed 10-2-03; 8:45 am]

BILLING CODE 8320-01-M